DEPARTMENT OF ENERGY

Federal Energy Regulatory Commission

[Project No. P-7888-024]

Comtu Falls Corporation; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 7888-024.

c. Date Filed: June 27, 2024.

d. Applicant: Comtu Falls Corporation (Comtu Corporation).

e. Name of Project: Comtu Falls Hydroelectric Project.

f. Location: On the Black River in Windsor County, Vermont.

g. Filed Pursuant to: Federal Power Act 16 U.S.C. 791(a)-825(r).

h. Applicant Contacts: Celeste Fay, Director Regulatory Affairs, Comtu Falls Corporation, P.O. Box 7580, Boulder, CO 80306; (413) 262-9466; email at celeste@gravityrenewables.com; or Jonathon Petrillo, VP Business Development, Comtu Falls Corporation, P.O. Box 7580, Boulder, CO 80306; (413) 262-9466; email at jon@gravityrenewables.com.

i. FERC Contact: Nathan Tatum at 202-502-8838, or nathan.tatum@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 26, 2024.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Comtu Falls Project (P-7888-024).

m. The application is not ready for environmental analysis at this time.

n. The Comtu Project consists of the following: (1) a 4-foot-high, 128-foot-long concrete gravity dam (Comtu Falls Dam) topped with 2-foot-high wooden flashboards with a crest elevation of 394.4 feet North American Vertical Datum of 1988 at the top of the flashboards; (2) a 0.4-acre impoundment; (3) an intake structure on the west side of the dam equipped with a trashrack with 1.5-inch clear bar spacing and a slide gate; (4) a 6-foot-high, 6-foot wide, 65-foot-long reinforced concrete penstock; (5) a powerhouse with one Kaplan turbine generator unit with an authorized installed capacity of 460 kilowatts; (6) a 0.6/4.61 kilovolt (kV), 300 kilo-volt-amperes transformer; (7) a 20-foot-long, 4.16-kV transmission line; and (8) appurtenant facilities.

Comtu Corporation operates the project in a run-of-river mode using an automatic pond level control system to regulate turbine operation, such that outflow from the project approximates inflow. The current license requires Comtu Corporation to release a continuous minimum flow of 4 cubic feet per second or inflow, whichever is less, over the project dam and to release all inflow over the dam when inflow is less than 44 cubic feet per second. The project had an average annual generation of 2,340 megawatt-hours between 2011 and 2020.

The current license also requires Comtu Corporation to provide downstream fish passage at the project from April 1 to June 15. Comtu Corporation operates a downstream fish passage facility consisting of a 3-foot-wide, 2-foot-deep notch in the spillway that discharges to a concrete plunge pool.

Comtu Corporation proposes to continue operating the project in a run-of-river mode. Comtu Corporation also proposes to: (1) increase the current year-round 0.5-inch aesthetic flow over the spillway to 1 inch or 10 cfs; (2) operate the existing downstream fish passage facility from April 1 to June 15 and from September 15 to November 15; and (3) develop a flow management and monitoring plan.

o. Copies of the application may be viewed on the Commission's website at http://www.ferc.gov using the “eLibrary” link. Enter the docket number excluding the last three digits in the docket number field to access the document (P-7888). For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. Procedural schedule and final amendments: The application will be processed according to the following preliminary schedule. Revisions to the schedule will be made as appropriate.

Milestone | Target date
Issue Deficiency Letter (if necessary) | August 2024.
Request for Additional Information | August 2024.
Issue Acceptance Letter | December 2024.
Issue Scoping Document 1 for comments | December 2024.
Request Additional Information (if necessary) | January 2025.
Issue Scoping Document 2 (if necessary) | March 2025.

Final amendments to the application must be filed with the Commission no later than 30 days from the issuance date of the notice of ready for environmental analysis.

Dated: July 11, 2024.
Debbie-Anne A. Reese,
Acting Secretary.

[FR Doc. 2024-15732 Filed 7-16-24; 8:45 am]

BILLING CODE 6717-01-P